DEPARTMENT OF HEALTH AND HUMAN SERVICES

Food and Drug Administration

[Docket No. FDA-2020-N-0001]

Preparation for International Cooperation on Cosmetics Regulation Fourteenth Annual Meeting; Public Meeting

AGENCY: Food and Drug Administration, HHS.

ACTION: Notice of public meeting.

SUMMARY: The Food and Drug Administration (FDA or we) is announcing the following public meeting entitled “International Cooperation on Cosmetics Regulation (ICCR)—Preparation for ICCR-14 Meeting.” The purpose of the public meeting is to invite public input on various topics pertaining to the regulation of cosmetics. We may use this input to help us prepare for the ICCR-14 meeting that will be held June 8 to 10, 2020, in Brussels, Belgium.

DATES: The public meeting will be held on April 14, 2020, from 2 p.m. to 4 p.m. See the SUPPLEMENTARY INFORMATION section for registration date and information.

ADDRESSES: The public meeting will be held at the Food and Drug Administration, Center for Food Safety and Applied Nutrition, 5001 Campus Dr., Wiley Auditorium (first floor), College Park, MD 20740. Entrance for the public meeting participants is through the Harvey W. Wiley Federal Building, where routine security check procedures will be performed.

FOR FURTHER INFORMATION CONTACT: Deborah Smegal, Office of Cosmetics and Colors, Food and Drug Administration, 5001 Campus Dr. (HFS-100), College Park, MD 20740, 240-402-1818, Deborah.Smegal@fda.hhs.gov.

SUPPLEMENTARY INFORMATION:

I. Background

The intention of the ICCR multilateral framework is to pave the way for the removal of regulatory obstacles to international trade while maintaining global consumer protection. The purpose of this meeting is to invite public input on various topics pertaining to the regulation of cosmetics. We may use this input to help us prepare for the ICCR-14 meeting that will be held June 8 to 10, 2020, in Brussels, Belgium.

ICCR is a voluntary international group of cosmetics regulatory authorities from Brazil, Canada, the European Union, Japan, and the United States of America. These regulatory authority members will engage in constructive dialogue with their relevant cosmetics industry trade associations and public advocacy groups. Currently, the ICCR members are: The Brazilian Health Surveillance Agency; Health Canada; the European Commission Directorate General for Internal Market, Industry, Entrepreneurship, and Small and Medium-sized Enterprises; the Ministry of Health, Labor, and Welfare of Japan; and United States Food and Drug Administration. All decisions are made by consensus and will be compatible with the laws, policies, rules, regulations, and directives of the respective administrations and governments. Members will implement and/or promote actions or documents within their own jurisdictions and seek convergence of regulatory policies and practices. Successful implementation will need input from stakeholders.

II. Topics for Discussion at the Public Meeting

We will make the agenda for the public meeting available by April 7, 2020, on the internet at https://www.fda.gov/Cosmetics/InternationalActivities/ICCR/default.htm.

III. Participating in the Public Meeting

Registration: To register for the public meeting, send registration information (including your name, title, affiliation, address, email, and telephone) to Deborah Smegal (see FOR FURTHER INFORMATION CONTACT) by March 31, 2020. If you would like to listen to the meeting by phone, please submit a request for a dial-in number by March 31, 2020 (see FOR FURTHER INFORMATION CONTACT). If you need special accommodations due to a disability, please contact Deborah Smegal by April 7, 2020.

Requests for Oral Presentations: If you wish to present, you should notify Deborah Smegal by March 31, 2020, and submit a brief statement of the general nature of the presentation: What you wish to present, your name, title, affiliation, address, email, and telephone, and indicate the approximate amount of time needed to make your presentation. You may wish to present proposals for future ICCR agenda items, data, information, or views, in person or in writing, on issues pending at the public meeting or a topic related to a previous meeting. There will be no presentations by phone. Time allotted for oral presentations may be limited to 10 minutes or less for each presenter, depending on the number of requests received.

Transcripts: Please be advised that as soon as a transcript of the public meeting is available, it will be accessible at https://www.regulations.gov. It may also be viewed at the Dockets Management Staff (HFA-305), Food and Drug Administration, 5630 Fishers Lane, Rm. 1061, Rockville, MD 20850.

Dated: February 26, 2020.
Lowell J. Schiller,
Principal Associate Commissioner for Policy.

[FR Doc. 2020-04318 Filed 3-2-20; 8:45 am]

BILLING CODE 4164-01-P